DEPARTMENT OF HEALTH AND HUMAN SERVICES

Substance Abuse and Mental Health Services Administration

Meeting of the Substance Abuse and Mental Health Services Administration National Advisory Council

AGENCY: Substance Abuse and Mental Health Services Administration, HHS.

ACTION: Notice.

SUMMARY: Notice is hereby given for the meeting on April 27, 2023, of the Substance Abuse and Mental Health Services Administration National Advisory Council (SAMHSA NAC). The meeting is open to the public and can also be accessed virtually. Agenda with call-in information will be posted on the SAMHSA website prior to the meeting at: https://www.samhsa.gov/about-us/advisory-councils/meetings. The meeting will include, but not be limited to, remarks from the Assistant Secretary for Mental Health and Substance Use; approval of the meeting minutes of August 10, 2022; updates and recap of the joint meetings of the councils (JNAC) and Lessons Learned; presentations on initiatives by the National Mental Health and Policy Laboratory; update on the Strategic Plan and Public Comment Response; and Overview of the Evidence-Based Practices Resource Center with group discussion; a presentation and discussion regarding the integration of equity; updates on the Interagency Task Force on Trauma Informed Care; updates on the Interdepartmental Serious Mental Illness Coordinating Committee (ISMICC); updates on the Interdepartmental Substance Use Disorders Coordinating Committee (ISUDCC); Council discussion and public comments.

DATES: March 27, 2023, 10:00 a.m. to approximately 3:15 p.m. EDT, Open.

ADDRESSES: 5600 Fishers Lane, Rockville, Maryland 20857 (Pavilion rooms).

FOR FURTHER INFORMATION CONTACT: Carlos Castillo, Committee Management Officer and Designated Federal Official; SAMHSA National Advisory Council, 5600 Fishers Lane, Rockville, Maryland 20857 (mail); telephone: (240) 276-2787; email: carlos.castillo@samhsa.hhs.gov.

SUPPLEMENTARY INFORMATION: The SAMHSA NAC was established to advise the Secretary, Department of Health and Human Services (HHS), and the Assistant Secretary for Mental Health and Substance Use, SAMHSA, to improve the provision of treatments and related services to individuals with respect to substance use and to improve prevention services, promote mental health, and protect legal rights of individuals with mental illness and individuals with substance use disorders or misuse.

Interested persons may present data, information, or views orally or in writing, on issues pending before the Council. Written submissions must be forwarded to the contact person no later than 7 days before the meeting. Oral presentations from the public will be scheduled for the public comment section at the end of the council discussion. Individuals interested in making oral presentations must notify the contact person by 1:00 p.m. (EDT), April 19, 2023. Up to three minutes will be allotted for each presentation, and as time permits, as these are presented in the order received. Public comments received will become part of the meeting records.

To obtain the call-in number, access code, and/or web access link; submit written or brief oral comments; or request special accommodations for persons with disabilities, please register on-line at: https://snacregister.samhsa.gov, or communicate with the contact person.

Meeting information and a roster of Council members may be obtained either by accessing the SAMHSA Council's website at https://www.samhsa.gov/about-us/advisory-councils/, or by contacting Carlos Castillo.

Dated: March 21, 2023.
Carlos Castillo,
Committee Management Officer.

[FR Doc. 2023-06153 Filed 3-23-23; 8:45 am]

BILLING CODE 4162-20-P